DEPARTMENT OF COMMERCE

International Trade Administration

[A-580-856]

Notice of Final Determination of Sales at Less Than Fair Value: Coated Free Sheet Paper from the Republic of Korea

AGENCY: Import Administration, International Trade Administration, Department of Commerce.

SUMMARY: We determine that imports of coated free sheet paper (“CFS paper”) are being, or are likely to be, sold in the United States at less than fair value (“LTFV”), as provided in section 735 of the Tariff Act of 1930, as amended (“the Act”). The estimated margins of sales at LTFV are shown in the “Final Determination” section of this notice.

EFFECTIVE DATE: October 25, 2007.

FOR FURTHER INFORMATION CONTACT: Stephanie Moore (Moorim Paper Co., Ltd. Moorim SP Co., Ltd. and Moorim USA Inc. (collectively, “Moorim”); Dennis McClure (EN Paper Mfg. Co., Ltd. and Shinoho USA, Inc. (collectively “EN Paper”); and (Kyesung Paper Co., Ltd. and Namhan Paper Co. Ltd. (collectively “Kyesung”)); or Joy Zhang (Hankuk Paper Mfg. Co., Ltd.) (“Hankuk”), and Hansol Paper Co., Ltd.) (“Hansol”)), AD/CVD Operations, Office 3, Import Administration-Room B-099, International Trade Administration, U.S. Department of Commerce, 14th Street and Constitution Avenue, NW., Washington, DC 20230; telephone: (202) 482-3692, (202) 482-5973, or (202) 482-1168, respectively.

SUPPLEMENTARY INFORMATION:

Background

On June 4, 2007, the Department published in the Federal Register the preliminary determination of sales at LTFV in the antidumping duty investigation of CFS paper from the Republic of Korea. See Coated Free Sheet Paper from the Republic of Korea: Notice of Preliminary Determination of Sales at Less Than Fair Value and Postponement of Final Determination, 72 FR 30766 (June 4, 2007) (“Preliminary Determination”). Since the Preliminary Determination, the following events have occurred. From July 9, 2007, through August 15, 2007, we verified the sales and cost questionnaire responses of Moorim, EN Paper, Hansol, Hankuk, and Kyesung (hereafter collectively referred to as “the Korean respondents”). On August 15, 27, 28, 30, and 31, and September 4, 2007, the Department issued its verification reports. We provided the interested parties an opportunity to comment on the Preliminary Determination and the Department's verification findings.

On June 29, 2007, the petitioner¹ requested a hearing, and from July 2 through 9, 2007, the Korean respondents also requested a hearing to discuss issues addressed in their case and rebuttal briefs.

¹ The petitioner in this investigation is NewPage Corporation.

On August 28, 2007, the petitioner requested that the Department clarify the scope of the investigation of CFS paper from Korea and placed on the record of this review information to support its request.

On September 10, 2007, the Department responded to the petitioner's targeting allegations that were filed on April 26, 2007. The petitioner alleged that Hansol targeted sales into a region and Moorim and Hankuk targeted specific customers. In the Preliminary Determination, the Department stated that although petitioner's allegations were timely, the Department did not have sufficient time to fully analyze them for purposes of the preliminary determination. The Department also stated that it would fully consider this issue for purposes of the final determination. See Preliminary Determination 72 FR 30766, 30767. Therefore, these allegations were addressed after the preliminary determination. See Memorandum to David M. Spooner, Assistant Secretary for Import Administration, from Stephen J. Claeys, Deputy Assistant Secretary for Import Administration, regarding Antidumping Duty Investigation of Coated Free Sheet Paper from South Korea - Post-Preliminary Analysis on Targeting (“Post-Preliminary Determination”), dated September 10, 2007, which is on file in the Central Records Unit (“CRU”), room B-099 of the main Department building. We provided the interested parties an opportunity to comment on the Department's Post-Preliminary Determination. See also “Targeted Dumping” discussion infra.

On September 12, 2007, the petitioner filed its case brief on the scope clarification issue. On September 14, 2007, the Korean respondents filed a rebuttal brief on this issue. A scope hearing was held on September 26, 2007. The hearing comprised a public session, a closed session for the antidumping investigation from Korea, and a closed session for the countervailing duty investigation from the People's Republic of China.

On September 17, 2007, the petitioner and the Korean respondents submitted case briefs. On September 24, 2007, both the petitioner and the Korean respondents submitted rebuttal briefs. On September 25, 2007, a closed hearing was held at the Department.

Targeted Dumping

We find that there is a pattern of export prices for comparable merchandise that differs significantly among purchasers and regions; moreover, such differences cannot be taken into account using the average-to-average comparison methodology. See section 777A(d)(1)(B) of the Tariff Act of 1930, as amended (the Act). Accordingly, we used the transaction-to-average methodology for these sales.

In the Post-Preliminary Determination, the Department employed the average-to-average comparison methodology used in the Preliminary Determination for non-targeted sales. See Post-Preliminary Determination; see also, Preliminary Determination, 72 FR 30766, 30768. As required by section 777A(d)(1)(B) of the Act, we determined that the pattern of price differences could not be taken into account using the average-to-average comparison methodology for targeted sales because that methodology, by averaging the high prices with the low prices, has the effect of masking the extent of sales at LTFV. Thus, consistent with 19 CFR 351.414(f)(2), we limited our application of the average-to-transaction methodology to the targeted sales under 19 CFR 351.414(f)(1).

When calculating a respondent's specific weighted-average margin, we combined the margin calculated for the targeted sales using the average-to-transaction methodology with the margin calculated for the non-targeted sales using the average-to-average methodology. In combining the margins for the targeted and non-targeted U.S. sales databases, we have not offset any margins found among the targeted U.S. sales. We have adopted the methodology established in the Post-Preliminary Determination for purposes of our final determination.

Period of Investigation

The period of investigation (“POI”) is October 1, 2005, through September 30, 2006. This period corresponds to the four most recent fiscal quarters prior to the month of the filing of the petition.

Analysis of Comments Received

All issues raised in the case and rebuttal briefs submitted by the parties to this investigation are addressed in the “Issues and Decision Memorandum” (“Decision Memo”) from Stephen J. Claeys, Deputy Assistant Secretary for Import Administration, to David M. Spooner, Assistant Secretary for Import Administration, dated October 17, 2007, which is hereby adopted by this notice. A list of the issues that parties have raised and to which we have responded, all of which are in the Decision Memo, is attached to this notice as an appendix. Parties can find a complete discussion of all issues raised in this investigation, and the corresponding recommendations in this public memorandum, on file in the CRU. In addition, a complete version of the Decision Memo can be accessed directly on the Web at http://ia.ita.doc.gov/frn. The paper copy and electronic version of the Decision Memo are identical in content.

Scope of Investigation

The merchandise covered by this investigation includes coated free sheet paper and paperboard of a kind used for writing, printing or other graphic purposes. Coated free sheet paper is produced from not-more-than 10 percent by weight mechanical or combined chemical/mechanical fibers. Coated free sheet paper is coated with kaolin (China clay) or other inorganic substances, with or without a binder, and with no other coating. Coated free sheet paper may be surface-colored, surface-decorated, printed (except as described below), embossed, or perforated. The subject merchandise includes single- and double-side-coated free sheet paper; coated free sheet paper in both sheet or roll form; and is inclusive of all weights, brightness levels, and finishes. The terms “wood free” or “art” paper may also be used to describe the imported product.

Excluded from the scope are: (1) coated free sheet paper that is imported printed with final content printed text or graphics; (2) base paper to be sensitized for use in photography; and (3) paper containing by weight 25 percent or more cotton fiber.

Coated free sheet paper is classifiable under subheadings 4810.13.1900, 4810.13.2010, 4810.13.2090, 4810.13.5000, 4810.13.7040, 4810.14.1900, 4810.14.2010, 4810.14.2090, 4810.14.5000, 4810.14.7040, 4810.19.1900, 4810.19.2010, and 4810.19.2090 of the Harmonized Tariff Schedule of the United States (HTSUS). While HTSUS subheadings are provided for convenience and customs purposes, our written description of the scope of this investigation is dispositive.

Scope Comments

On August 20, August 28, and September 10, 2007, the petitioner requested that the Department clarify the scope of the antidumping and countervailing duty investigations of CFS paper from Indonesia, Korea and the People's Republic of China. Specifically, the petitioner asked the Department to “clarify that the scope of the investigation includes coated free sheet paper containing hardwood BCTMP.”

Because this was a general issue pertaining to all six investigations, the Department set up a general issues file to handle this scope request. After considering the comments submitted by the parties to these investigations, we have determined not to adopt the scope clarification sought by the petitioner. See Memorandum to Stephen J. Claeys, Deputy Assistant Secretary for Import Administration, entitled “Scope Clarification Request: NewPage Corporation” dated concurrently with this notice, which is appended to “Issues and Decision Memorandum for the Final Determination in the Countervailing Duty Investigation of Coated Free Sheet Paper from the People's Republic of China.”

Changes Since the Preliminary Determination

Based on our analysis of the comments received and our findings at verification, we have made certain changes to the margin calculations for the Korean Respondents. For a discussion of these changes, see the “Margin Calculations” section of the Decision Memo.

Verification

As provided in section 782(i) of the Act, we verified the sales and cost information submitted by the Korean respondents for use in our final determination. We used standard verification procedures including an examination of relevant accounting and production records, and original source documents provided by the Korean respondents. Our sales and cost verification results are outlined in separate verification reports. See August 27, 28, and 31, 2007, and September 4, 2007, cost verification reports, and August 15, 30, and 31, 2007, sales verification reports for the Korean respondents.

Continuation of Suspension of Liquidation

In accordance with section 735(c)(1)(B) of the Act, we are directing U.S. Customs and Border Protection (“CBP”) to continue to suspend liquidation of all imports of subject merchandise with the exception of those exported by Hansol, Moorim, and Hankuk, that are entered or withdrawn from warehouse, for consumption on or after June 4, 2007, the date of publication of the preliminary determination in the Federal Register. We will instruct CBP to continue to require a cash deposit or the posting of a bond for all companies for which we have calculated an above de minimis margin based on the estimated weighted-average dumping margins shown below. The suspension of liquidation instructions will remain in effect until further notice.

Final Determination Margins

We determine that the following weighted-average dumping margins exist for the period October 1, 2005, thorough September 30, 2006:

Manufacturer/Exporter | Weighted Average Margin (percent)
Hansol | 0.97 (de minimis)
Hankuk | 0.47 (de minimis)
Moorim | 1.05 (de minimis)
EN Paper | 12.31
Kyesung | 31.55
All Others | 18.70

Section 735(c)(5)(A) of the Act provides that the estimated “All Others” rate shall be an amount equal to the weighted average of the estimated weighted-average dumping margins established for exporters and producers individually investigated, excluding any zero and de minimis margins, and any margins determined entirely under section 776 of the Act.

Disclosure

We will disclose the calculations performed within five days of the date of publication of this notice to parties in this proceeding in accordance with 19 CFR 351.224(b).

International Trade Commission (ITC) Notification

In accordance with section 735(d) of the Act, we have notified the ITC of our final determination. As our final determination is affirmative, the ITC will determine within 45 days whether imports of the subject merchandise are causing material injury, or threat of material injury, to the industry in the United States. If the ITC determines that material injury or threat of injury does not exist, the proceeding will be terminated and all securities posted will be refunded or canceled. If the ITC determines that such injury does exist, the Department will issue an antidumping duty order directing CBP to assess antidumping duties on all imports of the subject merchandise entered, or withdrawn from warehouse, for consumption on or after the effective date of the suspension of liquidation.

Return or Destruction of Proprietary Information

This notice will serve as the only reminder to parties subject to administrative protective order (“APO”) of their responsibility concerning the destruction of proprietary information disclosed under APO in accordance with 19 CFR 351.305(a)(3). Timely written notification of return/destruction of APO materials or conversion to judicial protective order is hereby requested. Failure to comply with the regulations and the terms of an APO is a sanctionable violation. We are issuing and publishing this determination and notice in accordance with sections 735(d) and 777(i) of the Act.

Dated: October 17, 2007.
David M. Spooner,
Assistant Secretary for Import Administration.

Appendix—Issues in Decision Memo

Comments

A. General Comments

Targeting

Comment 1: Standard and Appropriate Statistical Techniques

Comment 2: Validity of Certain Pasta from Italy

Comment 3: Statistical Significance Requirement

Comment 4: Whether the Average-to-Average Method Can Account for Targeted Dumping

Comment 5: Statutory Application of Transaction-to-Transaction Methodology

Comment 6: Discretionary Application of Transaction-to-Transaction Methodology

Comment 7: Margin Calculation of Targeted and Non-Targeted Sales

Comment 8: Proposed Transaction-to-Transaction Margin Program

Cost of Production

Comment 9: Application of Partial Facts Available to Hansol, Moorim, and Hankuk's Total Cost of Manufacture

Comment 10: Differences in Merchandise Were Not Verified

B. Company-Specific Comments

Hansol

Comment 1: Treatment of Constructed Export Price (CEP) Offset

Comment 2: Treatment of Indirect Selling Expenses Incurred in Korea (DINDIRSU)

Comment 3: Treatment of Missing U.S. Payment Dates

Comment 4: Treatment of U.S. Repacking

Comment 5: Adjustment of Hansol's Reported U.S. Rebates

Comment 6: Production Quantities Were Not Verified

Comment 7: General and Administrative Expense Rate

Comment 8: Financial Expense Rate

Kyesung

Comment 9: Price Adjustment Related to the U.S. Price

Comment 10: Request to Apply Partial Adverse Facts Available

Moorim

Comment 11: Moorim's Pulp Costs Remain Unexplained

Hankuk

Comment 12: Timeliness of Targeted Dumping Allegation concerning Hankuk Paper

Comment 13: Standard Costs for Hankuk

EN Paper

Comment 14: Credit Balance for Bad Debt Allowance

[FR Doc. E7-21035 Filed 10-24-07; 8:45 am]

BILLING CODE 3510-DS-S